DEPARTMENT OF LABOR

Employment and Training Administration

[NAFTA-4609]

Cooper Standard Automotive, Rocky Mount, NC; Notice of Termination of investigation

Pursuant to Title V of the North American Free Trade Agreement Implementation Act (Pub. L. 103-182) concerning transitional adjustment assistance, hereinafter called NAFTA-TAA and in accordance with section 250(a), subchapter D, chapter 2, Title II, of the Trade Act of 1974, as amended (19 U.S.C. 2331), an investigation was initiated on March 5, 2001, in response to a petition filed on behalf of workers at Cooper Standard Automotive, Rocky Mount, North Carolina.

The petitioner has withdrawn the petition. Consequently, further investigation in this case would serve no purpose, and the investigation has been terminated.

Signed in Washington, DC this 15th day of March, 2001.
Linda G. Poole,
Certifying Officer, Division of Trade Adjustment Assistance.

[FR Doc. 01-8325 Filed 4-4-01; 8:45 am]

BILLING CODE 4510-30-M